DEPARTMENT OF AGRICULTURE

Office of the Under Secretary, Research, Education, and Economics

Notice of the Advisory Committee on Biotechnology and 21st Century Agriculture Meeting

AGENCY: Agricultural Research Service, USDA.

ACTION: Notice of meeting.

SUMMARY: In accordance with the Federal Advisory Committee Act, 5 U.S.C. App., the United States Department of Agriculture announces a meeting of the Advisory Committee on Biotechnology and 21st Century Agriculture (AC21).

DATES: August 16 and 17, 2003, 8:30 a.m. to 5 p.m. both days.

ADDRESSES: Vista C Room at the Wyndham Washington Hotel, 1400 M Street, NW., Washington, DC 20005.

FOR FURTHER INFORMATION CONTACT: Michael Schechtman, Designated Federal Officer, Office of the Deputy Secretary, USDA, 202B Jamie L. Whitten Federal Building, 12th and Independence Avenue, SW., Washington, DC 20250; Telephone (202) 720-3817; Fax (202) 690-4265; E-mail mschechtman@ars.usda.gov.

SUPPLEMENTARY INFORMATION: The first meeting of the AC21 has been scheduled for August 16-17, 2003. The AC21 consists of 18 members representing the biotechnology industry, the seed industry, international plant genetics researchers, farmers, food manufacturers, commodity processors and shippers, environmental and consumer groups, along with academic researchers including a bioethicist. In addition, representatives from the Departments of Commerce, Health and Human Services, and State, and the Environmental Protection Agency, the Council on Environmental Quality, and the Office of the United States Trade Representative have been invited to serve as “ex officio” members. The Committee meeting will be held from 8:30 a.m. to 5 p.m. on each day. The topics to be discussed will include: (1) Rules of procedure for the AC21; (2) assessment of informational needs of AC21 members; (3) organization of the AC21's work in examining the impacts of agricultural biotechnology on American agriculture and USDA over the next 5 to 10 years and expected outputs from the committee; and (4) preliminary presentations and introductory discussions on two sub-areas of that work, namely new biotechnology-derived non-food uses of row crops and impacts of biotechnology along the overall food production and distribution system.

Background information regarding the work of the AC21 will be available on the USDA Web site at http://www.usda.gov/agencies/biotech/ac21.html. Members of the public who wish to make oral statements should also inform Dr. Schechtman in writing or via E-mail at the indicated addresses at least three business days before the meeting. On August 16, 2003, if time permits, reasonable provision will be made for oral presentations of no more than five minutes each in duration.

The meeting will be open to the public, but space is limited. If you would like to attend the meetings, you must register by contacting Ms. Dianne Harmon at (202) 720-4074, by fax at (202) 720-3191 or by E-mail at dharmon@ars.usda.gov at least 5 days prior to the meeting. Please provide your name, title, business affiliation, address, telephone, and fax number when you register. If you require a sign language interpreter or other special accommodation due to disability, please indicate those needs at the time of registration.

Joseph J. Jen,
Under Secretary, Research, Education and Economics.

[FR Doc. 03-13761 Filed 5-30-03; 8:45 am]

BILLING CODE 3410-03-P